SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before March 14, 2008.

ADDRESSES: Send all comments regarding whether this information collection is necessary for the proper performance of the function of the agency, whether the burden estimates are accurate, and if there are ways to minimize the estimated burden and enhance the quality of the collection, to Jules Lichtenstein, Senior Economist, Office of Advocacy, Small Business Administration, 409 3rd Street, SW., 7th Floor, Washington, DC 20416.

FOR FURTHER INFORMATION CONTACT: Jules Lichtenstein, Senior Economist, Office of Advocacy, 202-205-6537, jules.lichtenstein@sba.gov, or Curtis B. Rich, Management Analyst, 202-205-7030, curtis.rich@sba.gov.

SUPPLEMENTARY INFORMATION: Title: “High-Tech Immigrant Entrepreneurship in the U.S.”

Description of Respondents: Firms in selected industries in the Dun and Bradstreet database that doubled in revenues and employees between 2002 and 2006.

Form No.: N/A.

Annual Responses: 1,000.

Annual Burden: 167.

Jacqueline White,
Chief, Administrative Information Branch.

[FR Doc. 08-90 Filed 1-11-08; 8:45 am]

BILLING CODE 8025-01-M